DEPARTMENT OF ENERGY

Notice of Request for Information (RFI) on Progression to Net-Zero Emission Propulsion Technologies for the Rail Sector

AGENCY: Office of Energy Efficiency and Renewable Energy, Department of Energy.

ACTION: Request for information.

SUMMARY: The U.S. Department of Energy (DOE) invites public comment on its Request for Information (RFI) number DE-FOA-0003186 regarding the state of technology on the progression to net-zero emission propulsion technologies for the rail industry. The purpose of this RFI is to aggregate knowledge from rail stakeholders to help direct actions regarding future propulsion technologies, infrastructure requirements, and coordination among key stakeholders to ensure that the rail sector is meeting or exceeding U.S. decarbonization milestones. DOE's Office of Energy Efficiency and Renewable Energy (EERE) is specifically interested in information on the rail industry's current alternative fuels trajectory, the driving forces behind it, and the key barriers to achieving this transition.

DATES: Responses to the RFI must be received by January 12th, 2024.

ADDRESSES: Interested parties are to submit comments electronically to GreenRail@ee.doe.gov. Include “State of the Rail Industry” in the subject line of the email. Only electronic responses will be accepted. The complete RFI document is located at https://eere-exchange.energy.gov/.

FOR FURTHER INFORMATION CONTACT: Questions may be addressed to Ben Simon at GreenRail@ee.doe.gov or 240-562-1591. Further instruction can be found in the RFI document posted on EERE Exchange.

SUPPLEMENTARY INFORMATION: The U.S. National Blueprint for Transportation Decarbonization set the goal to achieve net-zero carbon emissions in the transportation sector—including rail—by 2050. This transformation to net-zero emission technologies requires coordination among all aspects of the rail supply chain, including feedstock supply, alternative fuel production, locomotive engine manufacturers, safety implementation, customer demand, and government regulation. To develop a national strategy to decarbonize the rail sector, two critical questions must be addressed:

1—Which alternative rail propulsion technologies are most promising?

2—What is the timeline for the rail sector to transition to net-zero emission technologies?

The purpose of this RFI is to understand what is driving the rail sector towards adopting alternative propulsion technologies, which technologies seem most promising, and what are the key barriers to achieving the transition to net-zero emissions by 2050.

The RFI is available at: https://eere-exchange.energy.gov/Default.aspx#FoaIdf0ca0a9f-6e0e-4175-b20a-1bdbb682d705.

Confidential Business Information: Pursuant to 10 CFR 1004.11, any person submitting information that he or she believes to be confidential and exempt by law from public disclosure should submit via email two well-marked copies: one copy of the document marked “confidential” including all the information believed to be confidential, and one copy of the document marked “non-confidential” with the information believed to be confidential deleted. Submit these documents via email. DOE will make its own determination about the confidential status of the information and treat it according to its determination.

Signing Authority: This document of the Department of Energy was signed on November 20th, by Jeffrey Marootian, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 21, 2023.
Treena V. Garrett,
Federal Register Liaison Officer, U.S. Department of Energy.

[FR Doc. 2023-26056 Filed 11-24-23; 8:45 am]

BILLING CODE 6450-01-P